DEPARTMENT OF COMMERCE

International Trade Administration

A-570-912

Certain New Pneumatic Off-The-Road Tires from the People's Republic of China: Notice of Amended Final Determination of Sales at Less Than Fair Value and Amended Antidumping Duty Order in Accordance With Final Court Decision

AGENCY: Import Administration, International Trade Administration, Department of Commerce.

EFFECTIVE DATE: August 13, 2010.

SUMMARY: On May 14, 2010, the United States Court of International Trade (“CIT”) sustained the final remand redetermination made by the Department of Commerce (“the Department”) pursuant to the CIT's remand of the final determination in the antidumping investigation on certain new pneumatic off-the-road tires (“OTR tires”) from the People's Republic of China (“PRC”). See Bridgestone Americas Inc. v. United States, Consol. Ct. No. 08-00256, Slip Op. 10-55 (Ct. Int'l Trade May 14, 2010) (“Bridgestone”). This case arose out of the Department's final determination in the antidumping duty investigation on OTR tires from the PRC. See Certain New Pneumatic Off-The-Road-Tires from the People's Republic of China: Final Affirmative Determination of Sales at Less Than Fair Value and Partial Affirmative Determination of Critical Circumstances, 73 FR 40485 (July 15, 2008) (“Final Determination”); Certain New Pneumatic Off-the-Road Tires from the People's Republic of China: Notice of Amended Final Affirmative Determination of Sales at Less than Fair Value and Antidumping Duty Order, 73 FR 51624 (September 4, 2008) (“OTR Tires Order”). As there is now a final and conclusive court decision in this action, we are amending our final determination and our antidumping duty order.

FOR FURTHER INFORMATION CONTACT: Lilit Astvatsatrian or Charles Riggle, AD/CVD Operations, Office 8, Import Administration, International Trade Administration, U.S. Department of Commerce, 14th Street and Constitution Avenue, NW, Washington DC 20230; telephone (202) 482-6412 or (202) 482-0650, respectively.

SUPPLEMENTARY INFORMATION: In July 2008, the Department published in the Federal Register the Final Determination in the antidumping duty investigation on OTR tires from the PRC in which it calculated a zero dumping rate for respondent Xugong Tyres Co., Ltd. (“Xugong”). See Final Determination, 73 FR at 40489; OTR Tires Order, 73 FR at 51625-26.

In August 2008, Bridgestone Americas, Inc. and Bridgestone Americas Tire Operations, LLC (collectively, “Bridgestone”) and Titan Tire Corporation (“Titan”), respectively, domestic producers of the like product, initiated actions at the CIT challenging the final determination with respect to Xugong's zero dumping margin. Among their claims, Bridgestone and Titan alleged that the Department erred in its final determination by treating as indirect materials certain inputs used by Xugong in the production of subject merchandise.

In April 2009, the Department requested a voluntary remand to further explain its determination regarding the classification of the fifteen raw materials reported by Xugong as indirect materials. On August 4, 2009, the CIT remanded this matter to the Department to reconsider whether each of the fifteen inputs was a direct or indirect material, to reopen the record as appropriate, and to recalculate the margin accordingly. See Bridgestone Americas Inc. v. United States, Consol. Ct. No. 08-00256, Slip Op. 09-79 (Ct. Int'l Trade Aug. 4, 2009).

After receiving comments on the draft remand results, the Department on January 7, 2010, issued its final remand redetermination in which it treated Xugong's fifteen raw material inputs as direct materials and, thus, recalculated Xugong's margin by adding Xugong's fifteen raw materials as direct material inputs in the calculation of the normal value. As a result of this recalculation, Xugong's dumping rate changed from 0.00 percent to 10.01 percent. See Final Determination Pursuant to Court Remand, Bridgestone Americas Inc. v. United States, Consol. Ct. No. 08-00256, dated January 8, 2010.

On May 14, 2010, the CIT sustained the final redetermination made by the Department pursuant to the CIT's remand of the final determination in the antidumping investigation of the OTR tires from the PRC. See Bridgestone, Slip Op. 10-55 at 14. Consistent with the decision of U.S. Court of Appeals for the Federal Circuit in Timken Co. v. United States, 893 F.2d 337 (Fed. Cir. 1990), the Department published in the Federal Register a notice of a court decision that is not “in harmony” with the Department's final determination. See Certain New Pneumatic Off-the-Road Tires from the People's Republic of China: Notice of Decision of the Court of International Trade Not in Harmony, 75 FR 31422 (June 3, 2010) (“Timken Notice ”). Pursuant to section 516A(e) of the Tariff Act of 1930, as amended (“the Act”), and consistent with the Timken Notice, the Department instructed U.S. Customs and Border Protection (“CBP”) to begin suspension of liquidation, effective May 24, 2010, with respect to subject merchandise produced and exported by Xugong, pending a final and conclusive court decision in this action. While merchandise produced and exported by Xugong was originally excluded from the antidumping order, the Department's remand determination found that merchandise exported and produced by Xugong was, in fact, sold at less than fair value. As the period to appeal the CIT decision in Bridgestone has expired, and a final and conclusive court decision with respect to this proceeding is in place, we are amending our amended final determination and antidumping duty order, accordingly.

Inclusion in the Application of the Antidumping Duty Order

As discussed above and pursuant to the affirmed remand determination, Xugong is no longer excluded from the antidumping duty order issued in this case. Therefore, as noted above, subject merchandise exported and produced by Xugong is subject to the antidumping duty order on OTR tires from the PRC.

Amendment to Final Determination and Antidumping Order

Because there is now a final and conclusive court decision with respect to this proceeding, the revised dumping margin in the amended final determination is as follows:

OTR Tires from the PRC
Exporter | Producer | Original Final Margin (Percent) | Amended Final Margin (Percent)
Xuzhou Xugong Tyres Co., Ltd. | Xuzhou Xugong Tyres Co., Ltd. | 0.00 | 10.01

Also, as noted above, Xugong is no longer excluded from the antidumping duty order issued in this case. Therefore, the Department will instruct the CBP to collect a cash deposit of 10.01 percent for entries of subject merchandise produced and exported by Xugong, effective May 24, 2010, in accordance with the Timken Notice.

This notice is issued and published in accordance with sections 735(d), 736(a), and 777(i)(1) of the Act.

Dated: August 6, 2010.
Ronald K. Lorentzen,
Deputy Assistant Secretary for Import Administration.

[FR Doc. 2010-20078 Filed 8-12-10; 8:45 am]

BILLING CODE 3510-DS-S